DEPARTMENT OF TRANSPORTATION

Federal Aviation Administration

14 CFR Part 39

[Docket No. FAA-2023-1811; Project Identifier MCAI-2023-00146-E; Amendment 39-22654; AD 2024-01-03]

RIN 2120-AA64

Airworthiness Directives; GE Aviation Czech s.r.o. (Type Certificate Previously Held by WALTER Engines a.s., Walter a.s., and MOTORLET a.s.) Engines

AGENCY: Federal Aviation Administration (FAA), DOT.

ACTION: Final rule.

SUMMARY: The FAA is superseding Airworthiness Directive (AD) 2023-01-07 for all GE Aviation Czech s.r.o. (GEAC) (type certificate previously held by WALTER Engines a.s., Walter a.s., and MOTORLET a.s.) Model H75-100, H75-200, H80, H80-100, H80-200, H85-100, and H85-200 engines. AD 2023-01-07 required revising the airworthiness limitations section (ALS) of the existing engine maintenance manual (EMM) and the operator's existing approved maintenance or inspection program, as applicable, to incorporate updated coefficients and recalculate the cycles accumulated on critical parts. Since the FAA issued AD 2023-01-07, the manufacturer revised the ALS of the EMM to introduce new and more restrictive airworthiness limitations and associated thresholds and intervals for life-limited parts, which prompted this AD action. This AD requires revising the ALS of the existing EMM and the operator's existing approved engine maintenance or inspection program, as applicable, to incorporate new and more restrictive instructions and associated thresholds and intervals for life-limited parts, as specified in a European Union Aviation Safety Agency (EASA) AD, which is incorporated by reference (IBR). The FAA is issuing this AD to address the unsafe condition on these products.

DATES: This AD is effective February 27, 2024.

The Director of the Federal Register approved the incorporation by reference of a certain publication listed in this AD as of February 27, 2024.

ADDRESSES:

AD Docket: You may examine the AD docket at regulations.gov under Docket No. FAA-2023-1811; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact EASA, Konrad-Adenauer-Ufer 3, 50668 Cologne, Germany; phone: +49 221 8999 000; email: ADs@easa.europa.eu; website: easa.europa.eu. You may find this material on the EASA website at ad.easa.europa.eu.

• You may view this service information at the FAA, Airworthiness Products Section, Operational Safety Branch, 1200 District Avenue, Burlington, MA 01803. For information on the availability of this material at the FAA, call (817) 222-5110. It is also available at regulations.gov under Docket No. FAA-2023-1811.

FOR FURTHER INFORMATION CONTACT: Barbara Caufield, Aviation Safety Engineer, FAA, 1600 Stewart Avenue, Suite 410, Westbury, NY 11590; phone: (781) 238-7146; email: barbara.caufield@faa.gov.

SUPPLEMENTARY INFORMATION:

Background

The FAA issued a notice of proposed rulemaking (NPRM) to amend 14 CFR part 39 to supersede AD 2023-01-07, Amendment 39-22301 (88 FR 2501, January 17, 2023; corrected February 3, 2023 (88 FR 7355); corrected February 16, 2023 (88 FR 10013)) (AD 2023-01-07). AD 2023-01-07 applied to GEAC Model H75-100, H75-200, H80, H80-100, H80-200, H85-100, and H85-200 engines. AD 2023-01-07 required revising the ALS of the existing EMM and the operator's existing approved maintenance or inspection program, as applicable, to incorporate the updated coefficients and recalculate the cycles accumulated on critical parts. The FAA issued AD 2023-01-07 to prevent failure of the engine.

The NPRM published in the Federal Register on September 6, 2023 (88 FR 60896). The NPRM was prompted by EASA AD 2023-0021, dated January 23, 2023 (EASA AD 2023-0021) (also referred to as the MCAI), issued by EASA, which is Technical Agent for the Member States of the European Union. EASA AD 2023-0021 supersedes EASA AD 2022-0008. The MCAI states that the manufacturer revised the ALS to introduce new and more restrictive instructions and associated thresholds and intervals for life-limited parts. The MCAI also states that GEAC published an Alert Service Bulletin, ASB-H75-72-10-00-0062, ASB-H80-72-10-00-0107, ASB-H85-72-10-00-0051, ASB-M601F-72-10-00-0070, ASB-M601E-72-10-00-0120, ASB-M601D-72-10-00-0087 and ASB-M601Z-72-10-00-0069; Revision 1, dated January 20, 2023, published as a single document, which provides instructions to determine the accumulated life of certain propeller shafts.

You may examine the MCAI in the AD docket at regulations.gov under Docket No. FAA-2023-1811.

In the NPRM, the FAA proposed to require accomplishing the actions specified in the MCAI described previously, except for any differences identified as exceptions in the regulatory text of the proposed AD.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Related Service Information Under 1 CFR Part 51

The FAA reviewed EASA AD 2023-0021, which specifies procedures for operators to revise the ALS of the existing EMM and the operator's existing approved engine maintenance or inspection program, as applicable, to incorporate new and more restrictive instructions and associated thresholds and intervals for life-limited parts, as applicable to each engine model.

This service information is reasonably available because the interested parties have access to it through their normal course of business or by the means identified in ADDRESSES.

Costs of Compliance

The FAA estimates that this AD affects 33 engines installed on airplanes of U.S. registry.

The FAA estimates the following costs to comply with this AD:

Estimated Costs
Action | Labor cost | Parts cost | Cost per product | Cost on U.S. operators
Revise the ALS | 1 work-hours × $85 per hour = $85 | $0 | $85 | $2,805

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-01-07, Amendment 39-22301 (88 FR 2501, January 17, 2023; corrected February 3, 2023 (88 FR 7355); corrected February 16, 2023 (88 FR 10013)); and

b. Adding the following new airworthiness directive:

2024-01-03 GE Aviation Czech s.r.o. (Type Certificate Previously held by WALTER Engines a.s., Walter a.s., and MOTORLET a.s.): Amendment 39-22654; Docket No. FAA-2023-1811; Project Identifier MCAI-2023-00146-E.

(a) Effective Date

This airworthiness directive (AD) is effective February 27, 2024.

(b) Affected ADs

This AD replaces AD 2023-01-07, Amendment 39-22301 (88 FR 2501, January 17, 2023; corrected February 3, 2023 (88 FR 7355); corrected February 16, 2023 (88 FR 10013)).

(c) Applicability

This AD applies to GE Aviation Czech s.r.o. (type certificate previously held by WALTER Engines a.s., Walter a.s., and MOTORLET a.s.) Model H75-100, H75-200, H80, H80-100, H80-200, H85-100, and H85-200 engines.

(d) Subject

Joint Aircraft System Component (JASC) Code 7200, Engine (Turbine/Turboprop).

(e) Unsafe Condition

This AD was prompted by the manufacturer revising the airworthiness limitations section (ALS) of the existing engine maintenance manual (EMM) to introduce new and more restrictive airworthiness limitations and associated thresholds and intervals for life-limited parts. The FAA is issuing this AD to prevent failure of the engine. The unsafe condition, if not addressed, could result in uncontained release of a critical part, damage to the engine, and damage to the airplane.

(f) Compliance

Comply with this AD within the compliance times specified, unless already done.

(g) Required Actions

(1) Except as specified in paragraph (h) of this AD: Perform all required actions within the compliance times specified in, and in accordance with, European Union Aviation Safety Agency (EASA) AD 2023-0021, dated January 23, 2023 (EASA AD 2023-0021).

(2) The action required by paragraph (g)(1) of this AD may be performed by the owner/operator (pilot) holding at least a private pilot certificate and must be entered into the aircraft records showing compliance with this AD in accordance with 14 CFR 43.9(a) and 91.417(a)(2)(v). The record must be maintained as required by 14 CFR 91.417, 121.380, or 135.439.

(h) Exceptions to EASA AD 2023-0021

(1) Where EASA AD 2023-0021 defines the AMP as “the approved Aircraft Maintenance Programme containing the tasks on the basis of which the scheduled maintenance is conducted to ensure the continuing airworthiness of each operated engine,” for this AD, replace that text with, “the aircraft maintenance program containing the tasks on the basis of which the scheduled maintenance is conducted to ensure the continuing airworthiness of each operated airplane.”

(2) Where EASA AD 2023-0021 defines the ALS as “the Airworthiness Limitations Section of GEAC EMM No. 0983402 Revision 25, dated November 21, 2022,” for this AD, replace that text with, “the airworthiness limitations section of GEAC EMM No. 0983402 Revision 26, dated February 1, 2023.” The ALS in Revision 26 of the EMM is unchanged from Revision 25 of the EMM.

(3) Where EASA AD 2023-0021 refers to its effective date, this AD requires using the effective date of this AD.

(4) Where paragraph (3) of EASA AD 2023-0021 specifies revising “the approved AMP within 12 months after the effective date of EASA AD 2023-0021,” replace that text with, “the ALS of the existing approved engine maintenance or inspection program, as applicable, within 90 days after the effective date of this AD.”

(5) This AD does not require compliance with paragraphs (1), (2), (4), and (5) of EASA AD 2023-0021.

(6) This AD does not adopt the Remarks paragraph of EASA AD 2023-0021.

(i) Provisions for Alternative Actions and Intervals

After performing the actions required by paragraph (g) of this AD, no alternative actions and associated thresholds and intervals, including life limits, are allowed unless they are approved as specified in the provisions of the “Ref. Publications” section of EASA AD 2023-0021.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to ANE-AD-AMOC@faa.gov.

(2) Before using any approved AMOC, notify your appropriate principal inspector, or lacking a principal inspector, the manager of the local flight standards district office/certificate holding district office.

(k) Additional Information

For more information about this AD, contact Barbara Caufield, Aviation Safety Engineer, FAA, 1600 Stewart Avenue, Suite 410, Westbury, NY 11590; phone: (781) 238-7146; email: barbara.caufield@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2023-0021, dated January 23, 2023.

(ii) [Reserved]

(3) For EASA AD 2023-0021, contact EASA, Konrad-Adenauer-Ufer 3, 50668 Cologne, Germany; phone: +49 221 8999 000; email: ADs@easa.europa.eu; website: easa.europa.eu. You may find this EASA AD on the EASA website at ad.easa.europa.eu.

(4) You may view this service information at FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locationsoremailfr.inspection@nara.gov.

Issued on January 17, 2024.
Victor Wicklund,
Deputy Director, Compliance & Airworthiness Division, Aircraft Certification Service.

[FR Doc. 2024-01218 Filed 1-22-24; 8:45 am]

BILLING CODE 4910-13-P